DEPARTMENT OF ENERGY

Federal Energy Regulatory Commission

[Docket No. ER00-2791-000, et al.]

Northern Maine Independent System Administrator, Inc., et al.; Electric Rate and Corporate Regulation Filings

June 15, 2000.

Take notice that the following filings have been made with the Commission:

1. Northern Maine Independent System Administrator, Inc.

[Docket No. ER00-2791-000]

Take notice that on June 12, 2000, Northern Maine Independent System Administrator, Inc. (NMISA), tendered for filing (i) an amendment to NMISA Rate Schedule FERC No. 1 and (ii) a revised version of Rate Schedule FERC No. 1 that complies with Order No. 614.

NMISA requests an effective date of June 1, 2000.

Comment date: July 3, 2000, in accordance with Standard Paragraph E at the end of this notice.

2. FirstEnergy System

[Docket No. ER00-2792-000]

Take notice that on June 12, 2000, FirstEnergy System tendered for filing a Service Agreement to provide Non-Firm Point-to-Point Transmission Service for: Public Service Company of Colorado, the Transmission Customer. Services are being provided under the FirstEnergy System Open Access Transmission Tariff submitted for filing by the Federal Energy Regulatory Commission in Docket No. ER97-412-000.

The proposed effective date under this Service Agreement is June 9, 2000 for the above mentioned Service Agreement in this filing.

Comment date: July 3, 2000, in accordance with Standard Paragraph E at the end of this notice.

3. FirstEnergy System

[Docket No. ER00-2793-000]

Take notice that on June 12, 2000, FirstEnergy System tendered for filing Service Agreements to provide Firm Point-to-Point Transmission Service for Public Service Company of Colorado, the Transmission Customer. Services are being provided under the FirstEnergy System Open Access Transmission Tariff submitted for filing by the Federal Energy Regulatory Commission in Docket No. ER97-412-000.

The proposed effective date under this Service Agreement is June 9, 2000 for the above mentioned Service Agreement in this filing.

Comment date: July 3, 2000, in accordance with Standard Paragraph E at the end of this notice.

4. Jersey Central Power & Light Company; Metropolitan Edison Company; and Pennsylvania Electric Company

[Docket No. ER00-2794-000]

Take notice that on June 12, 2000, Jersey Central Power & Light Company, Metropolitan Edison Company and Pennsylvania Electric Company (individually doing business as GPU Energy), tendered for filing a Notice of Cancellation of the Service Agreement between GPU Energy and Delmarva Power & Light Company, FERC Electric Tariff, Original Volume No. 1, Service Agreement No. 72.

GPU Energy requests that cancellation be effective the August 8, 2000.

Comment date: July 3, 2000, in accordance with Standard Paragraph E at the end of this notice.

5. PPL Montana, LLC

[Docket No. ER00-2796-000]

Take notice that on June 12, 2000, PPL Montana, LLC (PPL Montana), tendered for filing a Service Agreement dated May 11, 2000 with Black Hills Corporation d/b/a Black Hills Power and Light (Black Hills) under PPL Montana's Market-Based Rate Tariff, FERC Electric Tariff, Original Volume No. 1. The Service Agreement adds Black Hills as an eligible customer under the Tariff.

PPL Montana requests an effective date of May 11, 2000 for the Service Agreement.

PPL Montana states that Black Hills has been served with a copy of this filing.

Comment date: July 3, 2000, in accordance with Standard Paragraph E at the end of this notice.

6. Allegheny Energy Service Corporation, on behalf of Allegheny Energy Supply Company, LLC

[Docket No. ER00-2797-000]

Take notice that on June 12, 2000, Allegheny Energy Service Corporation on behalf of Allegheny Energy Supply Company, LLC (Allegheny Energy Supply), tendered for filing Amendment No. 5 to Supplement No. 5 to the Market Rate Tariff to incorporate a Netting Agreement with Public Service Electric and Gas Company into the tariff provisions.

Allegheny Energy Supply Company requests a waiver of notice requirements to make the Amendment effective as of June 6, 2000.

Copies of the filing have been provided to the Public Utilities Commission of Ohio, the Pennsylvania Public Utility Commission, the Maryland Public Service Commission, the Virginia State Corporation Commission, the West Virginia Public Service Commission, and all parties of record.

Comment date: July 3, 2000, in accordance with Standard Paragraph E at the end of this notice.

7. Allegheny Energy Service Corporation, on behalf of Allegheny Energy Supply Company, LLC

[Docket No. ER00-2798-000]

Take notice that on June 12, 2000, Allegheny Energy Service Corporation on behalf of Allegheny Energy Supply Company, LLC (Allegheny Energy Supply), tendered for filing Amendment No. 6 to Supplement No. 5 to the Market Rate Tariff to incorporate a Net-Out Agreement with Dynegy Power Marketing, Inc., into the tariff provisions.

Allegheny Energy Supply Company requests a waiver of notice requirements to make the Amendment effective as of May 24, 2000.

Copies of the filing have been provided to the Public Utilities Commission of Ohio, the Pennsylvania Public Utility Commission, the Maryland Public Service Commission, the Virginia State Corporation Commission, the West Virginia Public Service Commission, and all parties of record.

Comment date: July 3, 2000, in accordance with Standard Paragraph E at the end of this notice.

8. Consumers Energy Company

[Docket No. ER00-2799-000]

Take notice that on June 12, 2000, Consumers Energy Company (Consumers), tendered for filing an executed transmission service agreement with El Paso Merchant Energy, L.P. (Customer), pursuant to the Joint Open Access Transmission Service Tariff filed on December 31, 1996 by Consumers and The Detroit Edison Company (Detroit Edison).

The agreement has an effective date of May 25, 2000.

Copies of the filed agreement were served upon the Michigan Public Service Commission, Detroit Edison, and the Customer.

Comment date: July 3, 2000, in accordance with Standard Paragraph E at the end of this notice.

9. PECO Energy Company

[Docket No. ER00-2800-000]

Take notice that on June 12, 2000, PECO Energy Company (PECO), tendered for filing under Section 205 of the Federal Power Act, 16 U.S.C. S 792 et seq., an Agreement dated June 2, 2000 with Amerada Hess Corporation (AHC) under PECO's FERC Electric Tariff Original Volume No. 1 (Tariff).

PECO requests an effective date of June 9, 2000, for the Agreement.

PECO states that copies of this filing have been supplied to Amerada Hess Corporation and to the Pennsylvania Public Utility Commission.

Comment date: July 3, 2000, in accordance with Standard Paragraph E at the end of this notice.

10. Jersey Central Power & Light Company Metropolitan Edison Company and Pennsylvania Electric Company

[Docket No. ER00-2803-000]

Take notice that on June 12, 2000, Jersey Central Power & Light Company, Metropolitan Edison Company and Pennsylvania Electric Company (individually doing business as GPU Energy) tendered for filing a Notice of Cancellation of the Service Agreement between GPU Service Corporation and Atlantic City Electric Company, FERC Electric Tariff, Original Volume No. 1, Service Agreement No. 13.

GPU Energy requests that cancellation be effective August 8, 2000.

Comment date: July 3, 2000, in accordance with Standard Paragraph E at the end of this notice.

11. Deseret Generation & Transmission Co-operative

[Docket No. ER00-2812-000]

Take notice that on June 12, 2000, Deseret Generation & Transmission Co-operative, Inc. (Deseret), tendered for filing an executed umbrella non-firm point-to-point service agreement and an executed umbrella short term firm point-to-point service agreement with Southern Company Energy Marketing, L.P. under Deseret's open access transmission tariff. Deseret's open access transmission tariff is currently on file with the Commission in Docket No. OA97-487-000. Southern Company Energy Marketing has been provided a copy of this filing.

Deseret requests a waiver of the Commission's notice requirements for an effective date of June 1, 2000.

Comment date: July 3, 2000, in accordance with Standard Paragraph E at the end of this notice.

12. PECO Energy Company

[Docket No. ER00-2821-000]

Take notice that on June 12, 2000, PECO Energy Company (PECO), tendered for filing a request to amend its service agreement with Commonwealth Edison Company under PECO's Electric Tariff Original Volume No. 1 accepted by the Commission in Docket No. ER95-770, as subsequently amended and accepted by the Commission in Docket No. ER97-316.

PECO requests waiver of the notice period and expedited acceptance of the filing by the Commission.

Comment date: July 3, 2000, in accordance with Standard Paragraph E at the end of this notice.

13. Competitive Utility Services Corporation

[Docket No. ER00-2823-000]

Take notice that on June 12, 2000 Competitive Utility Services Corp. (CUSCo), tendered for filing with the Federal Energy Regulatory Commission a Notice of Succession relating to the above docket.

Comment date: July 3, 2000, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-15882 Filed 6-22-00; 8:45 am]

BILLING CODE 6717-01-P